FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 010982-034.

Title: Bahamas Shipowner Association.

Parties: Tropical Shipping and Construction Co., Ltd.; Arawak Line Ltd.; Pioneer Shipping Ltd.; Crowley Liner Services, Inc.; Seaboard Marine, Ltd.; G&G Marine, Inc.; Caicos Cargo Ltd.

Synopsis: The agreement: (1) Deletes Bahamas Ro Ro Service (Freeport) from membership; (2) clarifies rate authority, expands and consolidates it in Article 5.2; (3) redefines appointment and authority of Executive Director in Article 6.1; (4) clarifies the parties' authority to discuss, only, vessel capacity; (5) modifies language to assure consistent use of terms, deletes obsolete language, removes language required only in conference agreements; (6) modifies references to aggregation of individual service contracts and modifies other references to service contracts to conform to FMC requirements; (7) reemphasizes need to file minutes of meeting in accordance with regulations.

Agreement No.: 011851.

Title: CMA CGM/CSCL PGX Slot Charter Agreement.

Parties: CMA CGM S.A.; China Shipping Container Lines, Co. Ltd.

Synopsis: The proposed agreement would authorize China Shipping to charter 100 TEUs per weekly sailing on 8 vessels operated by CMA CGM pursuant to another FMC Agreement, No. 011847. CMA CGM's service operates between the U.S. Gulf Coast and the Far East with stops in Mexico, Panama, and Jamaica.

Agreement No.: 011852.

Title: Marine Terminal Discussion Agreement.

Parties: American President Lines, Ltd.; APL Co. Pte Ltd.; COSCO Americas, Inc.; Evergreen Marine Corporation; Hanjin Shipping Company, Ltd.; Maersk Sealand; MOL (America) Inc.; NYK (North America) Inc.; Yang Ming Transport Corp.; Zim-American Israeli Shipping Co., Inc.; Cooper/T. Smith Stevedoring Co., Inc.; Eagle Marine Services Ltd.; Global Terminal & Container Services, Inc.; Husky Terminal & Stevedoring, Inc.; International Transportation Service, Inc.; Maersk Pacific Ltd.; Maher Terminals, Inc.; Marine Terminals Corp.; Maryland Port Administration; P&O Ports North America, Inc.; South Carolina State Ports Authority; Stevedoring Services of America, Inc.; Trans Bay Container Terminal, Inc.; TraPac Terminals; Universal Maritime Service Corp.; and Virginia International Terminals.

Synopsis: The proposed agreement would authorize the parties to meet, discuss, and possibly agree on the costs of port security, including rates, charges, rules, regulations, practices, and terms and conditions related thereto.

By Order of the Federal Maritime Commission.
Dated: May 2, 2003.
Bryant L. VanBrakle,
Secretary.

[FR Doc. 03-11363 Filed 5-6-03; 8:45 am]

BILLING CODE 6730-01-P